FEDERAL COMMUNICATIONS COMMISSION

Sunshine Act Meeting

August 3, 2007.

FCC To Hold Open Commission Meeting Tuesday, August 7, 2007

The Federal Communications Commission will hold an Open Meeting on the subject listed below on Tuesday, August 7, 2007, which is scheduled to commence at 10 a.m. in Room TW-C305, at 445 12th Street, SW., Washington, DC. The prompt and orderly conduct of Commission business permits less than 7 days notice be given for consideration of this item.

Item No. | Bureau | Subject
1 | Wireless Tele-Communications | Title: Reexamination of Roaming Obligations of Commercial Mobile Radio Service Providers (WT Docket No. 05-265); Automatic and Manual Roaming Obligations Pertaining to Commercial Mobile Radio Services (WT Docket No. 00-193).
|  | Summary: The Commission will consider a Report and Order and Further Notice of Proposed Rulemaking addressing the roaming obligations of Commercial Mobile Radio Service providers.
*The summaries listed in this notice are intended for the use of the public attending open Commission meetings. Information not summarized may also be considered at such meetings. Consequently these summaries should not be interpreted to limit the Commission's authority to consider any relevant information.

Action by the Commission, August 3, 2007. Chairman Martin; Commissioners Copps, Adelstein, Tate and McDowell voting to consider this item.

Open captioning will be provided for this event. Other reasonable accommodations for people with disabilities are available upon request. Include a description of the accommodation you will need including as much detail as you can. In addition, include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (tty).

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Additional information concerning this meeting may be obtained from Audrey Spivack or David Fiske, Office of Media Relations, (202) 418-0500; TTY 1-888-835-5322. Audio/Video coverage of the meeting will be broadcast live with open captioning over the Internet from the FCC's Audio/Video Events Web page at www.fcc.gov/realaudio.

Federal Communications Commission.
Marlene H. Dortch,
Secretary.

[FR Doc. 07-3890 Filed 8-6-07; 12:40 pm]

BILLING CODE 6712-01-P